DEPARTMENT OF THE TREASURY

Office of Foreign Assets Control

Additional Designation of Individuals and Entities Pursuant to Executive Order 13224

AGENCY: Office of Foreign Assets Control, Treasury.

ACTION: Notice.

SUMMARY: The Treasury Department's Office of Foreign Assets Control (“OFAC”) is publishing the names of two newly designated individuals and five newly designated entities whose property and interests in property are blocked pursuant to Executive Order 13224 of September 23, 2001, “Blocking Property and Prohibiting Transactions With Persons Who Commit, Threaten To Commit, or Support Terrorism.”

DATES: The designation by the Director of OFAC of the two individuals and seven entities identified in this notice, pursuant to Executive Order 13224, is effective on July 24, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities, as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On July 24, 2007 the Director of OFAC, in consultation with the Departments of State, Homeland Security, Justice and other relevant agencies, designated, pursuant to one or more of the criteria set forth in subsections 1(b), 1(c) or 1(d) of the Order, two individuals and five entities whose property and interests in property are blocked pursuant to Executive Order 13224.

The list of additional designees is as follows:

1. AL-SHAMI, AHMAD; DOB 1965; POB Beirut, Lebanon.

2. ALIQ, QASIM (a.k.a. ALEIK, KASSEM; a.k.a. ‘ALIQ, HAJJ QASIM; a.k.a. ‘ALIQ, QASEM; a.k.a. ‘ULAYQ, QASIM); DOB 1956; POB Lebanon.

3. AL-QARD AL-HASSAN ASSOCIATION (a.k.a. AL-QUARD AL-HASSAN ASSOCIATION; a.k.a. AL-QUARDH AL-HASSAN ASSOCIATION; a.k.a. KARADH AL-HASSAN), Beirut, Lebanon.

4. GOODWILL CHARITABLE ORGANIZATION, INC. (f.k.a. AL-SHAHID SOCIAL ASSOCIATION; f.k.a. EDUCATIONAL DEVELOPMENT ASSOCIATION), 13106 Warren Ave. Suite #4, Dearborn, MI 48126; PO Box 1794, Dearborn, MI 48126.

5. MARTYRS FOUNDATION (a.k.a. AL-SHAHID ASSOCIATION FOR MARTYRS AND INTERNEES FAMILIES; a.k.a. AL-SHAHID CORPORATION; a.k.a. BONYAD SHAHID; a.k.a. BONYAD-E SHAHID; a.k.a. BONYAD-E SHAHID VA ISARGARAN; a.k.a. ES-SHAHID; a.k.a. IRANIAN MARTYRS FUND; a.k.a. SHAHID FOUNDATION; a.k.a. SHAHID FOUNDATION OF THE ISLAMIC REVOLUTION), P.O. Box 15815-1394, Tehran 15900, Iran.

6. MARTYRS FOUNDATION IN LEBANON (a.k.a. AL-MUA'ASSAT AL-SHAHID; a.k.a. AL-SHAHID CHARITABLE AND SOCIAL ORGANIZATION; a.k.a. AL-SHAHID FOUNDATION; a.k.a. AL-SHAHID ORGANIZATION; a.k.a. HIZBALLAH MARTYRS FOUNDATION; a.k.a. ISLAMIC REVOLUTION MARTYRS FOUNDATION; a.k.a. LEBANESE MARTYR ASSOCIATION; a.k.a. LEBANESE MARTYR FOUNDATION; a.k.a. MARTYRS INSTITUTE), Biqa' Valley, Lebanon; P.O. Box 110 24, Bir al-Abed, Beirut, Lebanon.

7. PALESTINIAN MARTYRS FOUNDATION (a.k.a. AL-SHAHID FOUNDATION-PALESTINIAN BRANCH; a.k.a. MUASSASAT SHAHID FILISTIN; a.k.a. PALESTINIAN MARTYRS INSTITUTION GROUP; a.k.a. SHAHID FUND), Lebanon.

Dated:August 7, 2007.
Adam J. Szubin,
Director, Office of Foreign Assets Control.

[FR Doc. E7-21051 Filed 10-24-07; 8:45 am]

BILLING CODE 4811-42-P